DEPARTMENT OF THE INTERIOR

Bureau of Land Management

[15X.LLID9570000.L14400000.BJ0000.241A.X.4500081115]

Idaho; Filing of Plats of Survey

AGENCY: Bureau of Land Management, Interior.

ACTION: Notice of filing of plats of surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho 83709-1657.

SUPPLEMENTARY INFORMATION: These surveys were executed at the request of the Bureau of Land Management to meet their administrative needs. The lands surveyed are: The plat representing the dependent resurvey of portions of the west and north boundaries, and the subdivision of section 6, T. 49 N., R. 2 W., Boise Meridian, Idaho, Group Number 1371, was accepted May 6, 2015.

The plat representing the dependent resurvey of a portion of the subdivisional lines, and the subdivision of section 1 and the metes-and-bounds surveys of Tracts 37 and 38, T. 49 N., R. 3 W., Boise Meridian, Idaho, Group Number 1371, was accepted May 6, 2015.

The plat representing the dependent resurvey of a portion of the subdivisional lines, and the subdivision of section 31, T. 50 N., R. 2 W., Boise Meridian, Idaho, Group Number 1371, was accepted May 6, 2015.

The supplemental plat in sec. 22, T. 13 N., R. 38 E., Boise Meridian, Idaho, Group Number 1311, was prepared to show amended distances was accepted June 18, 2015. The plat constituting the entire survey record of the dependent resurvey of portions of Mineral Survey Number 1483 and subdivision of section 23, and a metes-and-bounds survey in section 23, T. 6 N., R. 5 E., Boise Meridian, Idaho, Group Number 1413, was accepted June 19, 2015.

These surveys were executed at the request of the Bureau of Indian Affairs to meet their administrative needs. The lands surveyed are:

The plat constituting the entire survey record of the dependent resurvey of a portion of the subdivision of section 22, and a metes-and-bounds survey in former lot 1, T. 33 N., R. 3 E., Boise Meridian, Idaho, Group Number 1436 was accepted May 14, 2015.

The plat representing the dependent resurvey of portions of the Boise Meridian (east boundary) and subdivisional lines, and the subdivision of sections 11, 14, 24, and 26, T. 36 N., R. 1 W., of the Boise Meridian, Idaho, Group Number 1412, was accepted June 18, 2015.

The plat representing the dependent resurvey of portions of the subdivisional lines and subdivision of section 26, and further subdivision of section 26, and the metes-and-bounds survey of the north line of Indian allotment 80E in original lot 7 of section 26, T. 36 N., R. 4 W., of the Boise Meridian, Idaho, Group Number 1408, was accepted June 24, 2015.

This survey was executed at the request of the U.S. Fish and Wildlife Service to meet their administrative needs. The lands surveyed are:

The plat representing the dependent resurvey of portions of the east boundary and subdivisional lines and subdivision of sections 25 and 26, T. 7 N., R. 35 E., of the Boise Meridian, Idaho, Group Number 1405, was accepted April 21, 2015.

This survey was executed at the request of the United States Air Force, Mountain Home Air Force Base to meet their administrative needs. The lands surveyed are: The supplemental plat was prepared to show new lots 1 through 7 in sec. 10, T. 4 S., R. 5 E., Boise Meridian, Idaho, Group Number 1440, was accepted June 29, 2015.

This survey was executed at the request of the U.S.D.A. Forest Service to meet their administrative needs. The lands surveyed are:

The plat representing the dependent resurvey of a portion of the subdivisional lines and the adjusted 1901 meanders of the left bank of the Buffalo River in section 27, and the subdivision of section 27, and a metes-and-bounds survey in section 27, T. 13 N., R. 43 E., of the Boise Meridian, Idaho, Group Number 1421, was accepted June 30, 2015.

Jeff A. Lee,
Acting Chief Cadastral Surveyor for Idaho.

[FR Doc. 2015-17410 Filed 7-15-15; 8:45 am]

BILLING CODE 4310-GG-P